DEPARTMENT OF JUSTICE

[OMB Number 1121-0249]

Agency Information Collection Activities; Proposed eCollection eComments Requested; Extension of a Currently Approved Collection: Mortality in Correctional Institutions (State Prisons)

AGENCY: Bureau of Justice Statistics, Department of Justice.

ACTION: 60-day notice.

SUMMARY: The Department of Justice (DOJ), Office of Justice Programs, Bureau of Justice Statistics, will be submitting an extension to an existing information collection to the Office of Management and Budget (OMB) for review and approval in accordance with the Paperwork Reduction Act of 1995.

DATES: Comments are encouraged and will be accepted for 60 days until November 13, 2018.

FOR FURTHER INFORMATION CONTACT: If you have additional comments, especially on the estimated public burden or associated response time, suggestions, or need a copy of the proposed information collection instrument with instructions or additional information, please contact Mary Cowhig, Statistician, 810 Seventh Street NW, Washington, DC 20531 (email: mary.cowhig@usdoj.gov; telephone: 202-353-4982).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Mortality in Correctional Institutions (State Prisons) (MCI-State Prisons).

3. The agency form number, if any, and the applicable component of the Department sponsoring the collection: The MCI-State Prisons collection currently includes the following forms:

• NPS-4: Annual Summary of Inmate Deaths in State Prisons. This form is sent to the 50 state DOCs to collect the number of state prisoner deaths in a calendar year.

• NPS-4A: State Prison Inmate Death Report Form. Annually, this form is sent to the 50 state DOCs to collect details about each state prisoner death.

The applicable component within the Department of Justice is the Bureau of Justice Statistics (BJS), in the Office of Justice Programs.

BJS proposes to transfer the MCI-Jails information collection from the currently approved OMB collection under control number 1121-0094, where it was bundled with the Annual Survey of Jails and the Survey of Jails in Indian Country collections in 2015, to this collection (OMB Control Number 1121-0249, expiration 03/31/2019) to form one mortality collection program.

The combined mortality collection would include the 50 state departments of corrections (DOCs) plus approximately 3,000 local jail jurisdictions and would collect data on the number and nature of inmate deaths in the custody of state correctional facilities.

Prior to 2015, BJS collected mortality data from both state prisons and local jails under the OMB Control Number 1121-0249. In 2015, the Mortality in Correctional Institutions (Jails) (MCI-Jails) portion of the collection was bundled with the Annual Survey of Jails (ASJ) and the Survey of Jails in Indian Country (SJIC) in an attempt to consolidate the response burden placed on jails. However, the overlap among these three collections is small, both in terms of jails covered in each and context collected:

• MCI-Jails requests annual data from about 3,000 jail jurisdictions on deaths, the confined population as of December 31, average daily population (ADP), number of holds for other jurisdictions, and number of admissions.

• The ASJ samples approximately 900 local jails, and provides data to estimate the number and characteristics of local jail inmates nationwide. The ASJ collects population information, including the number of confined inmates, number of individuals supervised in the community by local jails, average daily population, and the number of holds for other authorities as of June 30. The ASJ also obtains data on inmate movements, including the number of admissions and discharges; facility characteristics, including rated and peak capacities and staffing; and inmate characteristics, including race and ethnicity, sex, age group (adult or juvenile), primary offense, and conviction status.

• The SJIC collects data from Indian country jails that are not part of either the ASJ or the MCI-Jails collections. The SJIC collects information from confinement facilities, detention centers, jails, and other facilities operated by tribal authorities or the Bureau of Indian Affairs.

Although there is some duplication in data collected by the ASJ and MCI-Jails, the reference dates are different and the ASJ is a sample, whereas MCI-Jails is a full enumeration of jail jurisdictions. Due to seasonal fluctuations in jail populations, and fewer inmates held at year-end (December 31), the ASJ uses the last weekday in June as its reference date. MCI-Jails uses December 31 as its reference date, and more importantly, uses ADP from January 1 to December 31 as the denominator in calculating mortality rates, which is consistent with the time period represented by the numerator, the number of deaths in a calendar year.

The following forms are proposed to be transferred from OMB Control Number 1121-0094 to OMB Control Number 1121-0249:

• CJ-9: Death Report on Inmates under Jail Jurisdiction. This form goes to all jail jurisdictions that are operated by a county or city. Jail administrators are requested to complete the form if their facilities had one or more deaths in a calendar year.

• CJ-10: Death Report on Inmates in Private and Multi-Jurisdictional Jails. This form goes to all confinement facilities administered by two or more local governments (regional jails) and privately owned or operated confinement facilities. Jail administrators are requested to complete the form if their facilities had one or more deaths in a calendar year.

• CJ-9A: Annual Summary on Inmates under Jail Jurisdiction. This form goes to county and city jail jurisdictions. The form collects the number of male and female deaths in custody in a calendar year, the number of males and females confined as of December 31, the number of male and female admissions during the year, the average daily population by sex, and the number of persons confined on behalf of other agencies.

• CJ-10A: Annual Summary on Inmates in Private and Multi-Jurisdictional Jails. This form goes to confinement facilities administered by two or more local governments (regional jails) and to privately owned or operated facilities. The form collects the same information as Form CJ-9A.

4. Affected public who will be asked or required to respond, as well as a brief abstract: The combined MCI for prisons and jails would collect annual data from the 50 state departments of corrections and roughly 3,000 jail jurisdictions on the number and nature of deaths in their custody.

5. An estimate of the total number of respondents and the amount of time estimated for an average respondent to respond:

Data supplier and form | Reporting method | Number of data suppliers | Number of responses | Average reporting time (in minutes) | Total burden (in hours, rounded to whole number)
Verification calls (local jails) | Telephone | 3,000 | 3,000 | 9 | 450
CJ-9A, CJ-10A jail annual summary | Online, mail | 3,000 | 2,900 | 15 | 725
CJ-9, CJ-10 jail death report | Online, mail | 3,000 | 1,000 | 30 | 500
Data quality follow-up (local jails) | Telephone, email | 3,000 | 350 | 10 | 58
Total, MCI-Jails |  |  |  |  | 1,733
Verification calls (state prisons) | Telephone | 50 | 50 | 9 | 8
NPS-4A, state prison death report | Online, mail | 50 | 3,500 | 30 | 1,750
NPS-4, state prison annual summary | Online, mail | 50 | 50 | 5 | 4
Data quality follow-up (state prisons) | Telephone, email | 50 | 420 | 10 | 70
Total, MCI-State Prisons |  |  |  |  | 1,832
Total Burden |  |  |  |  | 3,565

The estimated total burden hours associated with this combined jail and state prison mortality collection for report year 2018 is 3,565. This is a transfer of 1,733 hours from the jail mortality collection to the state prison mortality collection. When the state prison mortality collection was last approved in 2016, the total burden estimate was 1,723 hours. The state prison portion is now estimated at 1,832 burden hours due to an increase in the expected number of individual death reports. Based on the average number of death reports received over the most recent 10-year period, BJS expects to receive about 3,500 state prison and 1,000 jail death reports per year.

If additional information is required, contact: Melody Braswell, Department Clearance Officer, United States Department of Justice, Justice Management Division, Policy and Planning Staff, Two Constitution Square, 145 N Street NE, 3E.405A, Washington, DC 20530.

Dated: September 7, 2018.
Melody Braswell,
Department Clearance Officer for PRA, U.S. Department of Justice.

[FR Doc. 2018-19802 Filed 9-11-18; 8:45 am]

BILLING CODE 4410-18-P